DEPARTMENT OF TRANSPORTATION

Federal Transit Administration

Notice of Early Scoping for the Capital Metro Blue Line High Capacity Transit Corridor in Austin, Texas

AGENCY: Federal Transit Administration (FTA), DOT.

ACTION: Notice of early scoping meeting.

SUMMARY: The Federal Transit Administration (FTA) and the Capital Metropolitan Transportation Authority (Capital Metro) of Austin, Texas issue this early scoping notice to advise other agencies and the public that they intend to conduct early scoping for the Blue Line High Capacity Transit (HCT) Corridor. The Blue Line HCT Corridor is a 15.5-mile corridor connecting multiple activity centers between North Austin, Downtown Austin, East Riverside and the Austin Bergstrom International Airport. The entire corridor is being proposed for HCT dedicated pathways.

This notice invites public input to ongoing planning efforts for the Blue Line HCT Corridor by commenting on the project's purpose and need, the project study area, alternatives being considered, public participation and outreach methods, relevant transportation and community impacts and benefits being considered, potential environmental impacts, and the projected capital and operating costs of the project.

DATES: The public may learn more about the Blue Line HCT Corridor and provide comments at an early scoping meeting scheduled for: Monday, May 20, 2019, 3:00 to 7:00 p.m. Central Time at Austin Central Library, 710 W Cesar Chavez St., Austin, TX 78701.

Capital Metro is also providing notice of this early scoping meeting on Capital Metro's website (capmetro.org) and in the following publications:

• Austin American Statesman

• The Villager Newspaper

• The LaPrensa Newspaper

ADDRESSES: Public comments will be accepted at the early scoping meeting. In addition, comments may be sent electronically to: bluelinefeedback@projectconnect.com. Comments may be mailed to: Capital Metro Project Connect Office, Blue Line HCT Corridor Comments, 607 Congress Avenue, Austin, TX 78701. All comments are requested by June 28, 2019.

The meeting location is accessible to persons with disabilities. If translation, signing services, or other special accommodations are needed, please contact Courtney Black at (512) 457-1244 or via email at courtney.black@capmetro.org.

FOR FURTHER INFORMATION CONTACT: Terence Plaskon, FTA, phone: (817) 978-0573, email: terence.plaskon@dot.gov or Joe Clemens, AICP, Capital Metro, phone: (512) 369-6515, email: joe.clemens@capmetro.org.

SUPPLEMENTARY INFORMATION: The Blue Line HCT Corridor is included in Capital Metro's Project Connect Long-Term Vision Plan. Project Connect developed specifically targeted solutions that address existing service deficiencies and identified HCT investments that would add mobility options for the Central Texas region. Early scoping for the Blue Line HCT Corridor builds on previous Project Connect planning efforts and will examine potential alternatives to provide HCT in the Central Texas region.

The early scoping process is intended to support the formal National Environmental Policy Act (NEPA) scoping process. In addition, early scoping supports FTA planning requirements associated with the Capital Investment Grant funding program. Capital Metro will comply with all relevant FTA requirements related to planning and project development to help analyze and screen alternatives in preparation for the NEPA process.

Early Scoping

Early Scoping is an optional early step in the NEPA process that precedes formal scoping, which begins when FTA publishes a notice of intent to prepare an environmental impact statement (EIS). FTA encourages the use of early scoping for major planning activities that may receive FTA funding to start the NEPA process during earlier project planning phases. Early scoping is intended to generate public and agency review and comments on the scope of a planning effort within a defined transportation corridor, which helps the agency to determine which alignment variations should receive more focused development to streamline the NEPA process. Early scoping can serve not only to streamline the NEPA process, but also to firmly link transportation planning and NEPA, ensuring that the public and interested agencies are given the opportunity to review and provide comments on the results of planning activities that can then be used to inform the NEPA process.

Project Connect Long-Term Vision Plan

Over the last 30 months, Capital Metro has been conducting the Project Connect System Plan per general guidelines of the Federal Planning and Environmental Linkages (PEL) process. Capital Metro intends to formalize the PEL process with the initiation of early scoping for the Blue Line HCT Corridor, so that the results of the PEL may be considered during the formal NEPA environmental review process.

Under this PEL process, Capital Metro will analyze alternatives that could be considered in an EIS, if warranted. The alternatives analysis will document the project's purpose and need, analyze a range of reasonable, feasible, and prudent alternatives, and identify a locally preferred alternative (LPA) in accordance with the Council on Environmental Quality's and FTA's regulations and guidance for implementing NEPA (40 CFR 1501.2 through 1501.8 and 23 CFR 771.111, respectively), which encourages Federal agencies to initiate NEPA early in their planning processes.

Early scoping allows the scoping process to begin as soon as there is enough information to describe the proposal so that the public and relevant agencies can participate effectively. This notice opens early scoping and invites public and agency involvement with ongoing planning activities and studies for the Blue Line HCT Corridor, including review of the (a) purpose and need, (b) the proposed alternatives, and (c) the potential environmental, transportation, and community impacts and benefits to consider during the NEPA process.

Purpose and Need for the Proposed Project

Capital Metro invites comments on the following preliminary statement of the project's purpose and need: The purpose of the project is to build high capacity transit along Trinity Street, over the Colorado River, and along East Riverside Drive that provides faster, more reliable travel to, from, and between North Austin, University of Texas, Downtown Austin, East Riverside, and Austin Bergstrom International Airport. The purpose is in response to the following needs in the corridor:

• The need to connect activity centers and manage future growth with improved transit;

• the need to provide better transit options linking affordable housing and jobs;

• the need to connect employers and employees along the corridor with fast and reliable transit;

• the need to ensure inter-operability between the Blue Line and future corridors; and

• the need to respond to explosive growth in airport travel that warrants improved transit to Austin Bergstrom International Airport.

Potential Alternatives

During the early scoping process, all reasonable alternatives under consideration will be evaluated in terms of their transportation impacts, capital and operating costs, social, economic, and environmental impacts, and technical consideration. Capital Metro will continue to analyze alternative transit modes, alignment, and design options for HCT in the Blue Line Corridor. Capital Metro will seek to identify a broad range of alternatives, consistent with the project's purpose and need. The alternatives will include a No Build Alternative, as well as the following proposed alternatives:

• Baseline Alternative (MetroBus Route 20 with transit speed and reliability improvements);

• Dedicated Pathways Bus Rapid Transit (BRT);

• Dedicated Pathways Light Rail Transit (LRT); and

• Dedicated Pathways Autonomous Rapid Transit (ART).

At the end of the early scoping process, FTA and Capital Metro anticipate identifying a preferred mode and alignment as the LPA for further evaluation during the formal NEPA process. If an EIS is warranted, FTA will publish a Notice of Intent in the Federal Register and the public and interested agencies will have the opportunity to participate in a review and comment period on the scope of the EIS.

Gail Lyssy,
Deputy Regional Administrator, FTA Region VI.

[FR Doc. 2019-07855 Filed 4-18-19; 8:45 am]

BILLING CODE 4910-57-P